DEPARTMENT OF DEFENSE

Office of the Secretary

Advisory Panel on Streamlining and Codifying Acquisition Regulations

AGENCY: Office of the Under Secretary of Defense (Acquisition, Technology, and Logistics), DoD.

ACTION: Notice.

SUMMARY: The Department of Defense is publishing this notice to announce the establishment of the Advisory Panel on Streamlining and Codifying Acquisition Regulations (hereafter “the Panel”). The Panel plans to meet on a monthly basis and will provide a final report to the Secretary of Defense and Congress in 2018. The agenda and meeting times will be posted on the panel Web site http://www.dau.mil/sec809.

FOR FURTHER INFORMATION CONTACT: Melissa Rider, Defense Acquisition University, 9820 Belvoir Road, Fort Belvoir, VA 22060, email: melissa.rider@dau.mil, phone: 703-805-4967.

SUPPLEMENTARY INFORMATION: Section 809 of the National Defense Authorization Act for Fiscal Year 2016 (Pub. L. 114-92) required the Secretary of Defense to establish “an advisory panel on streamlining acquisition regulations.” The Panel was seated on August 12, 2016.

By Statute, the Panel is exempt from the Federal Advisory Committee Act (5 U.S.C. Appendix). Public information, including opportunities for input will be posted and periodically updated at http://www.dau.mil/sec809.

Dated: September 30, 2016.
Aaron Siegel,
Alternate OSD Federal Register Liaison Officer, Department of Defense.

[FR Doc. 2016-24045 Filed 10-4-16; 8:45 am]

BILLING CODE 5001-06-P